DEPARTMENT OF ENERGY

Federal Energy Regulatory Commission

[Docket No. CP05-82-001]

El Paso Natural Gas Company; Notice of Intent To Prepare an Environmental Assessment for the Proposed Gila Compressor Station Removal Project and Request for Comments on Environmental Issues

May 8, 2009.

The staff of the Federal Energy Regulatory Commission (FERC or Commission) will prepare an environmental assessment (EA) that will discuss the environmental impacts of El Paso Natural Gas Company's (El Paso) request for amended authorization to remove the previously abandoned aboveground facilities at its Gila Compressor Station, in Maricopa County, Arizona. This EA will be used by the Commission in its decision-making process to determine whether the project is in the public convenience and necessity.

This notice announces the opening of the scoping process we will use to gather input from the public and interested agencies on the project. Your input will help the Commission staff determine which issues need to be evaluated in the EA. Please note that the scoping period will close on June 8, 2009.

This notice is being sent to Federal, State, and local government representatives and agencies; elected officials; environmental and public interest groups; Native American Tribes; other interested parties; and local libraries and newspapers. State and local government representatives are asked to notify their constituents of this planned project and encourage them to comment on their areas of concern.

Summary of the Proposed Project

El Paso has requested an amendment to the Commission's Order of May 5, 2005 which authorized abandonment in place and termination of service for the Gila Compressor Station. Having experienced vandalism and theft at the facility, El Paso proposes to remove all equipment and structures down to the concrete foundations. The facilities which would be removed include: A compressor building; pump house; auxiliary building; machine shop; office building; waste tanks; air receiving tanks; fin fan coolers; sulfuric acid storage tanks; two 1000 barrel (bbl) tanks; electrical and control wiring; station light poles; and all aboveground piping. Miscellaneous liquids (engine oils, coolants, amine, condensate, and hydrocarbons) were previously removed from the Gila Bend Compressor Station when it was abandoned in place.

Salvaged materials would be sold as scrap, or recycled. Other materials would be disposed of in local land fills in accordance with all applicable Federal, State, and local regulations.

The general location of the project facilities is shown in Appendix 1.¹

¹ The appendices referenced in this notice are not being printed in the Federal Register. Copies of all appendices are available on the Commission's Web site at the “eLibrary” link or from the Commission's Public Reference Room, 888 First Street, NE., Washington, DC 20426, or call (202) 502-8371. For instructions on connecting to eLibrary, refer to the last page of this notice. Copies of the appendices were sent to all those receiving this notice in the mail.

If approved, El Paso proposes to accomplish demolition of the facilities in 2009.

Land Requirements

The facilities proposed for demolition comprise 2 acres of El Paso's 155 acre fenced compressor station yard which, except for a portion of about 3.58 acres of Bureau of Land Management administered land just inside the fence line, is owned in fee title by El Paso. All demolition activities would be located on El Paso fee title land.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ² will discuss impacts that could occur as a result of the construction and operation of the proposed project under these general headings:

² “We”, “us”, and “our” refer to the environmental staff of the Office of Energy Projects (OEP).

• Geology and soils.

• Land use.

• Water resources, fisheries, and wetlands.

• Cultural resources.

• Vegetation and wildlife.

• Air quality and noise.

• Polychlorinated biphenyl (PCB) contamination.

• Public safety.

Our independent analysis of the issues will be in the EA. Depending on the comments received during the scoping process, the EA may be published and mailed to federal, state, and local agencies, public interest groups, interested individuals, newspapers, libraries, and the Commission's official service list for this proceeding. A comment period will be allotted for review if the EA is published. We will consider all comments on the EA before we make our recommendations to the Commission. To ensure your comments are considered, please carefully follow the instructions in the public participation section below.

With this NOI, we are asking Federal, State, and local agencies with jurisdiction and/or special expertise with respect to environmental issues to formally cooperate with us in the preparation of the EA. These agencies may choose to participate once they have evaluated the proposal relative to their responsibilities. Additional agencies that would like to request cooperating agency status should follow the instructions for filing comments provided under the Public Participation section of this NOI.

Currently Identified Environmental Issues

We have already identified issues that we think deserve attention based on a preliminary review of the proposed facilities and the environmental information provided by El Paso. This preliminary list of issues may be changed based on your comments and our analysis.

• The Gila Bend Compressor Station has been assessed as a historically significant component of the energy infrastructure of the Southwestern United States.

• El Paso has identified samples which exceed the method detection limit for PCBs. El Paso proposes to dispose of PCB contaminated material in a Toxic Substances Control Act regulated landfill in accordance with 40 Code of Federal Regulations 761.61.

Public Participation

You can make a difference by providing us with your specific comments or concerns. Your comments should focus on the potential environmental effects, reasonable alternatives, and measures to avoid or lessen environmental impacts. The more specific your comments, the more useful they will be. To ensure that your comments are timely and properly recorded, please send in your comments so that they will be received in Washington, DC on or before June 8, 2009.

For your convenience, there are three methods which you can use to submit your comments to the Commission. In all instances please reference the project docket number CP05-82-000 with your submission. The docket number can be found on the front of this notice. The Commission encourages electronic filing of comments and has dedicated eFiling expert staff available to assist you at 202-502-8258 or efiling@ferc.gov.

(1) You may file your comments electronically by using the Quick Comment feature, which is located on the Commission's internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426

Label one copy of the comments for the attention of Gas Branch 2, PJ11.2.

Becoming an Intervenor

In addition to involvement in the EA scoping process, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site.

Environmental Mailing List

As described above, we may publish and distribute the EA for public review and comment. If you are interested in receiving an EA, please return the Environmental Mailing List Form (appendix 2). If you do not return the Environmental Mailing List Form or comment on the project, you will be taken off the mailing list. All individuals who provide comments will remain on our environmental mailing list for this project.

Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Finally, public meetings or site visits will be posted on the Commission's calendar located at http://www.ferc.gov/EventCalendar/EventsList.aspx along with other related information.

Kimberly D. Bose,
Secretary.

[FR Doc. E9-11344 Filed 5-14-09; 8:45 am]

BILLING CODE 6717-01-P